DEPARTMENT OF COMMERCE

National Institute of Standards and Technology

[Docket No. 110727437-1613-02]

Extension of the Due Date for Submitting Comments on Research and Development Priorities for Desirable Features of a Nationwide Public Safety Broadband Network

AGENCY: National Institute of Standards and Technology (NIST), Department of Commerce.

ACTION: Request for Comments; extension.

SUMMARY: On September 12, 2011, NIST published a Request for Comment in the Federal Register, inviting interested parties to submit written comments on various possible features of a new nationwide interoperable public safety broadband network. The comments will be used by NIST to help determine research and development priorities in anticipation of the President's Wireless Innovation (WIN) Fund to help drive innovation of next-generation network technologies. NIST is publishing this notice to extend the deadline for the submission of comments pertaining to the September 12, 2011 notice until 5 p.m., Eastern Time, on Wednesday, October 26, 2011. No other changes are being made to the originally published Request for Comment.

DATES: Comments are due on or before 5 p.m., Eastern Time, on Wednesday, October 26, 2011. Comments received between 5 p.m. on October 12, 2011, and the publication date of this notice are deemed to be timely.

ADDRESSES: Comments should be sent to Dereck Orr, dereck.orr@nist.gov.

FOR FURTHER INFORMATION CONTACT: Dereck Orr, Office of Law Enforcement Standards, National Institute of Standards and Technology, 325 Broadway, Boulder, Colorado 80305, telephone number (303) 497-5400. Mr. Orr's e-mail address is dereck.orr@nist.gov.

SUPPLEMENTARY INFORMATION: The Obama Administration has announced its support for legislation that would create a not-for-profit Public Safety Broadband Corporation to oversee the deployment of a nationwide network that meets the needs of local, state, Tribal, and Federal public safety communities.¹ The Administration has also proposed a $3 billion WIN Fund to help drive innovation through research, experimentation, testbeds, and applied development. Of the $3 billion, $500 million will be devoted to research and development (R&D) for the new public safety broadband network.² The Public Safety Innovation Fund (PSIF), NIST's component of the proposed WIN Fund, helps spur the development of cutting-edge wireless technologies.

¹ Comments of the National Telecommunications and Information Administration before the Federal Communications Commission in the matter of Service Rules for the 698-747, 747-762 and 777- 792 Band (WT Docket No. 06-150); Implementing a Nationwide, Broadband, Interoperable Public Safety Network in the 700 MHz Band (PS Docket No. 06-229); Amendment of Part 90 of the Commission's Rules (WP Docket No. 07-100). http://www.ntia.doc.gov/filings/2011/NTIA_Public_Safety_Network_Comments_06102011.pdf.

² President Obama Details Plan to Win the Future through Expanded Wireless Access. http://www.whitehouse.gov/the-press-office/2011/02/10/president-obama-details-plan-win-future-throughexpanded-wireless-access.

On September 12, 2011, NIST published a Request for Comment in the Federal Register (76 FR 56165), inviting interested parties to provide written comments on proposed features of a nationwide interoperable public safety broadband network for this R&D, which were identified by the NIST Visiting Committee on Advanced Technology with the input of public safety and their identified operational requirements. The due date for the submission of comments as set forth in the original Request for Comment was 5 p.m., Eastern Time, on October 12, 2011. NIST is extending the due date for submission of comments until 5 p.m., Eastern Time, on Wednesday, October 26, 2011 in order to provide interested parties additional time to submit their comments. Comments received between 5 p.m. on October 12, 2011, and the publication date of this notice are deemed to be timely. No other changes are being made to the originally published Request for Comment.

Dated: October 13, 2011.
Willie E. May,
Associate Director for Laboratory Programs.

[FR Doc. 2011-27781 Filed 10-26-11; 8:45 am]

BILLING CODE 3510-15-P